DEPARTMENT OF TRANSPORTATION

Federal Aviation Administration

14 CFR Part 39

[Docket No. 2000-NM-395-AD]

RIN 2120-AA64

Airworthiness Directives; Boeing Model 737-100, -200, -300, -400, and -500 Series Airplanes, and Model 747, 757, 767, and 777 Series Airplanes

AGENCY: Federal Aviation Administration, DOT.

ACTION: Notice of proposed rulemaking (NPRM).

SUMMARY: This document proposes the adoption of a new airworthiness directive (AD) that is applicable to certain Model 737-100, -200, -300, -400, and -500 series airplanes, and Model 747, 757, 767, and 777 series airplanes. This proposal would require replacing the rudder pedal pushrod fasteners for both the captain's and first officer's pedal assemblies with new, improved fasteners. This action is necessary to prevent loss of rudder control due to improperly torqued fasteners that connect the pushrod to the rudder pedal assembly, which could result in loss of controllability of the airplane. This action is intended to address the identified unsafe condition.

DATES: Comments must be received by June 4, 2001.

ADDRESSES: Submit comments in triplicate to the Federal Aviation Administration (FAA), Transport Airplane Directorate, ANM-114, Attention: Rules Docket No. 2000-NM-395-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2000-NM-395-AD” in the subject line and need not be submitted in triplicate. Comments sent via the Internet as attached electronic files must be formatted in Microsoft Word 97 for Windows or ASCII text.

The service information referenced in the proposed rule may be obtained from Boeing Commercial Airplane Group, P.O. Box 3707, Seattle, Washington 98124-2207. This information may be examined at the FAA, Transport Airplane Directorate, 1601 Lind Avenue, SW., Renton, Washington.

FOR FURTHER INFORMATION CONTACT: Barbara Mudrovich, Aerospace Engineer, Systems and Equipment Branch, ANM-130S, FAA, Seattle Aircraft Certification Office, 1601 Lind Avenue, SW., Renton, Washington 98055-4056; telephone (425) 227-2983; fax (425) 227-1181.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-395-AD.” The postcard will be date stamped and returned to the commenter.

Availability of NPRMs

Any person may obtain a copy of this NPRM by submitting a request to the FAA, Transport Airplane Directorate, ANM-114, Attention: Rules Docket No. 2000-NM-395-AD, 1601 Lind Avenue, SW., Renton, Washington 98055-4056.

Discussion

The FAA has received a report from one operator of a Boeing Model 737-400 series airplane that, during rollout after landing, the captain's right rudder pedal moved to the full travel position when it was pushed and did not return to the normal position when it was released. The first officer used the pedal to control the rudder and nose wheel steering. Investigation revealed that the pushrod was not connected to the right rudder pedal assembly. The nut and washer were found in the lower forward compartment. The airplane in this incident had accumulated 17,600 total flight hours and 7,900 total flight cycles. Another operator reported that a pilot felt a loose rudder pedal. Investigation revealed that the fastener connecting the pushrod to the rudder pedal assembly was loose. The airplane in this incident had accumulated 3,012 total flight hours and 2,658 total flight cycles.

In addition, maintenance inspections of 130 in-service Model 737 series airplanes found four other loose fasteners. The manufacturer reports that a loose nut may allow the bolt to migrate out of its hole and block the movement of the adjacent rudder pedal. The bolt could also fall out of its hole and disconnect the rudder pedal from the pushrod.

The rudder pedal installation that controls the rudder and nose wheel steering on certain Model 737-100, -200, -300, and -500 series airplanes, and certain Model 747, 757, 767, and 777 series airplanes, is similar in design to that on the affected Model 737-400 series airplanes. Therefore, those Model 737-100, -200, -300, and -500 series airplanes, and Model 747, 757, 767, and 777 series airplanes, may be subject to the same unsafe condition revealed on the affected Model 737-400 series airplanes.

This condition, if not corrected, could cause loss of rudder control due to improperly torqued fasteners that connect the pushrod to the rudder pedal assembly, which could result in loss of controllability of the airplane.

Explanation of Relevant Service Information

The FAA has reviewed and approved the Boeing service bulletins listed in the following table:

Service bulletin | Revision level | Date | Model
737-27A1214 | 1 | July 1, 1999 | 737-100, -200, -300, -400, and -500.
747-27A2373 | Original | June 24, 1999 | 747.
757-27A0129 | Original | March 25, 1999 | 757.
767-27A0159 | Original | June 10, 1999 | 767.
777-27A0030 | Original | April 1, 1999 | 777.

The service bulletins listed in the table above describe procedures for replacing the rudder pedal pushrod fasteners for both the captain's and first officer's pedal assemblies with new, improved fasteners. Replacement action specifies using self-locking, castellated nuts and cotter pins through the bolts for nut retention. Accomplishment of the actions specified in the service bulletins is intended to adequately address the identified unsafe condition.

Explanation of Requirements of Proposed Rule

Since an unsafe condition has been identified that is likely to exist or develop on other products of this same type design, the proposed AD would require accomplishment of the actions specified in the service bulletins described previously.

Cost Impact

There are approximately 6,097 Model 737-100, -200, -300, -400, and -500 series airplanes, and Model 747, 757, 767, and 777 series airplanes of the affected design in the worldwide fleet. The FAA estimates that 2,338 series airplanes of U.S. registry would be affected by this proposed AD, that it would take approximately 1 work hour per airplane to accomplish the proposed actions, and that the average labor rate is $60 per work hour. Required parts would cost approximately $75 per airplane. Based on these figures, the cost impact of the proposed AD on U.S. operators is estimated to be $315,630, or $135 per airplane.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Boeing: Docket 2000-NM-395-AD.

Applicability: Model 737-100, -200, -300, -400, and -500 series airplanes, and Model 747, 757, 767, and 777 series airplanes, as listed in the following applicable Boeing service bulletin specified in the following table; certificated in any category:

Table 1.—Applicable Service Bulletins
Model | Service bulletin | Revision level | Date
737-100, -200, -300, -400, and -500 | 737-27A1214 | 1 | July 1, 1999.
747 | 747-27A2373 | Original | June 24, 1999.
757 | 757-27A0129 | Original | March 25, 1999.
767 | 767-27A0159 | Original | June 10, 1999.
777 | 777-27A0030 | Original | April 1, 1999.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent loss of rudder control due to improperly torqued fasteners that connect the pushrod to the rudder pedal assembly, which could result in loss of controllability of the airplane, accomplish the following:

Replacement

(a) Within 18 months after the effective date of this AD: Replace the rudder pedal pushrod fasteners for both the captain's and first officer's pedal assemblies with new, improved fasteners that use self-locking, castellated nuts and cotter pins through the bolts for nut retention, per the applicable Boeing service bulletin listed in the following table:

Table 2.—Applicable Service Bulletins
Model | Service bulletin | Revision level | Date
737-100, -200, -300, -400, and -500 | 737-27A1214 | 1 | July 1, 1999.
747 | 747-27A2373 | Original | June 24, 1999.
757 | 757-27A0129 | Original | March 25, 1999.
767 | 767-27A0159 | Original | June 10, 1999.
777 | 777-27A0030 | Original | April 1, 1999.

Note 2: Replacement actions that include replacing the rudder pedal pushrod fasteners for both the captain's and first officer's pedal assemblies with new, improved fasteners, which use self-locking, castellated nuts and cotter pins through the bolts for nut retention, accomplished before the effective date of this amendment, per Boeing Alert Service Bulletin 737-27A1214, dated April 8, 1999, is considered acceptable for compliance with the applicable action specified in this amendment.

Alternative Methods of Compliance

(b) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 3: Information concerning the existence of approved alternative methods of compliance with this AD, if any, may be obtained from the Seattle ACO.

Special Flight Permit

(c) Special flight permits may be issued in accordance with sections 21.197 and 21.199 of the Federal Aviation Regulations (14 CFR 21.197 and 21.199) to operate the airplane to a location where the requirements of this AD can be accomplished.

Issued in Renton, Washington, on April 13, 2001.
Donald L. Riggin,
Acting Manager, Transport Airplane Directorate, Aircraft Certification Service.

[FR Doc. 01-9765 Filed 4-19-01; 8:45 am]

BILLING CODE 4910-13-P